DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Financial Transactions.

Agency Approval Number: 0651-0043.

Type of Request: Revision of a currently approved collection.

Burden: 86,263 hours annually.

Number of Respondents: 2,590,950 responses per year.

Avg. Hours per Response: The USPTO estimates that it will take the public approximately 1 to 7 minutes (0.02 to .12 hours) to prepare the appropriate form or documents and submit to the USPTO.

Needs and Uses: Under 35 U.S.C. 41 and 15 U.S.C. 1113, the United States Patent and Trademark Office (USPTO) charges fees for processing and other services related to patents, trademarks, and information products. Customers may submit payments to the USPTO by several methods, including credit card, deposit account, electronic funds transfer (EFT), and paper check transactions. The provisions of 35 U.S.C. 41 and 15 U.S.C. 1113 are implemented in 37 CFR 1.16-1.28, 2.6-2.7, and 2.206-2.209. This information collection includes associated payment and account forms for the aforementioned financial transactions and methods.

Affected Public: Businesses or other for-profit organizations.

Frequency: On occasion.

Respondent's Obligation: Required to obtain or retain benefits.

OMB Desk Officer: Nicholas A. Fraser, email: Nicholas_A._Fraser@omb.eop.gov.

Once submitted, the request will be publicly available in electronic format through the Information Collection Review page at www.reginfo.gov.

Paper copies can be obtained by:

• Email: InformationCollection@uspto.gov. Include “0651-43 copy request” in the subject line of the message.

• Mail: Marcie Lovett, Records Management Division Director, Office of the Chief Information Officer, United States Patent and Trademark Office, P.O. Box 1450, Alexandria, VA 22313-1450.

Written comments and recommendations for the proposed information collection should be sent on or before December 26, 2014 to Nicholas A. Fraser, OMB Desk Officer, via email to Nicholas_A._Fraser@omb.eop.gov, or by fax to 202-395-5167, marked to the attention of Nicholas A. Fraser.

Dated: November 20, 2014.
Marcie Lovett,
Records Management Division Director, USPTO, Office of the Chief Information Officer.

[FR Doc. 2014-27931 Filed 11-25-14; 8:45 am]

BILLING CODE 3510-16-P